DEPARTMENT OF ENERGY

Federal Energy Regulatory Commission

Combined Notice of Filings #1

Take notice that the Commission received the following exempt wholesale generator filings:

Docket Numbers: EG20-186-000.

Applicants: Ellwood Power, LLC.

Description: Self-Certification of EWG of Ellwood Power, LLC.

Filed Date: 6/12/20.

Accession Number: 20200612-5226.

Comments Due: 5 p.m. ET 7/6/20.

Docket Numbers: EG20-187-000.

Applicants: Ormond Beach Power, LLC.

Description: Self-Certification of EWG of Ormond Beach Power, LLC.

Filed Date: 6/12/20.

Accession Number: 20200612-5227.

Comments Due: 5 p.m. ET 7/6/20.

Docket Numbers: EG20-188-000.

Applicants: Fern Solar LLC.

Description: Fern Solar LLC Notice of Self-Certification of Exempt Wholesale Generator Status.

Filed Date: 6/12/20.

Accession Number: 20200612-5229.

Comments Due: 5 p.m. ET 7/6/20.

Take notice that the Commission received the following electric rate filings:

Docket Numbers: ER20-1107-002.

Applicants: Midcontinent Independent System Operator, Inc., ITC Midwest LLC.

Description: Tariff Amendment: 2020-06-15_SA 2945 ITC-IPL Sub 1st Rev FSA (J233 J514) Unpopulated Template to be effective 2/28/2020.

Filed Date: 6/15/20.

Accession Number: 20200615-5142.

Comments Due: 5 p.m. ET 7/6/20.

Docket Numbers: ER20-2050-000.

Applicants: Tri-State Generation and Transmission Association, Inc.

Description: § 205(d) Rate Filing: Amendment to Service Agreement No. 207 to be effective 2/25/2020.

Filed Date: 6/12/20.

Accession Number: 20200612-5192.

Comments Due: 5 p.m. ET 7/6/20.

Docket Numbers: ER20-2051-000.

Applicants: Niagara Mohawk Power Corporation, New York Independent System Operator, Inc.

Description: Compliance filing: Niagara Mohawk—Order No. 864 compliance re: transmission service charge to be effective 1/27/2020.

Filed Date: 6/15/20.

Accession Number: 20200615-5017.

Comments Due: 5 p.m. ET 7/6/20.

Docket Numbers: ER20-2052-000.

Applicants: PJM Interconnection, L.L.C.

Description: § 205(d) Rate Filing: Amendment to ICSA, SA No. 5247; Queue Position Z2-107 to be effective 6/21/2019.

Filed Date: 6/15/20.

Accession Number: 20200615-5106.

Comments Due: 5 p.m. ET 7/6/20.

Docket Numbers: ER20-2053-000.

Applicants: Republic Transmission, LLC.

Description: Tariff Cancellation: Republic Transmission LLC Cancellation of Formula Rates Tariff to be effective 6/15/2020.

Filed Date: 6/15/20.

Accession Number: 20200615-5130.

Comments Due: 5 p.m. ET 7/6/20.

Docket Numbers: ER20-2055-000.

Applicants: Southern California Edison Company.

Description: § 205(d) Rate Filing: Amended GIA & DSA Kaweah River Power Authority SA Nos. 1100-1101 Terminus Dam to be effective 8/15/2020.

Filed Date: 6/15/20.

Accession Number: 20200615-5165.

Comments Due: 5 p.m. ET 7/6/20.

Docket Numbers: ER20-2056-000.

Applicants: Northern Indiana Public Service Company.

Description: § 205(d) Rate Filing: Filing of a CIAC Agreement to be effective 6/10/2020.

Filed Date: 6/15/20.

Accession Number: 20200615-5198.

Comments Due: 5 p.m. ET 7/6/20.

Docket Numbers: ER20-2057-000.

Applicants: El Paso Electric Company.

Description: § 205(d) Rate Filing: Service Agreement No. 335, Nonconforming EPE and EDFR Solar LGIA to be effective 5/29/2020.

Filed Date: 6/15/20.

Accession Number: 20200615-5220.

Comments Due: 5 p.m. ET 7/6/20.

Docket Numbers: ER20-2058-000.

Applicants: El Paso Electric Company.

Description: § 205(d) Rate Filing: Service Agreement No. 336, Nonconforming EPE and NextEra LGIA to be effective 5/20/2020.

Filed Date: 6/15/20.

Accession Number: 20200615-5240.

Comments Due: 5 p.m. ET 7/6/20.

Take notice that the Commission received the following electric securities filings:

Docket Numbers: ES20-43-000.

Applicants: Consolidated Edison Company of New York, Inc.

Description: Application Under Section 204 of the Federal Power Act for Authorization to Issue Securities of Consolidated Edison Company of New York, Inc.

Filed Date: 6/12/20.

Accession Number: 20200612-5242.

Comments Due: 5 p.m. ET 7/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2020.
Nathaniel J. Davis, Sr.,
Deputy Secretary.

[FR Doc. 2020-13245 Filed 6-18-20; 8:45 am]

BILLING CODE 6717-01-P